DEPARTMENT OF JUSTICE

Antitrust Division

Notice Pursuant to the National Cooperative Research and Production Act of 1993—American Wood Protection Association, Inc.

Notice is hereby given that, on July 7, 2014, pursuant to Section 6(a) of the National Cooperative Research and Production Act of 1993, 15 U.S.C. 4301 et seq. (“the Act”), American Wood Protection Association, Inc. (“AWPA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Wood Protection Association, Inc., Birmingham, AL. The nature and scope of AWPA's standards development activities are: to develop standards for products and processes which improve resistance of wood to degradation, standards for preserved wood products, standards for evaluation of wood protectants, chemical analysis methods, quality control procedures, and other miscellaneous related standards.

Patricia A. Brink,
Director of Civil Enforcement, Antitrust Division.

[FR Doc. 2014-19322 Filed 8-14-14; 8:45 am]

BILLING P